DEPARTMENT OF THE TREASURY

Internal Revenue Service

26 CFR Part 1

[REG-124405-03]

RIN 1545-BC13

Optional 10-Year Writeoff of Certain Tax Preferences; Hearing

AGENCY: Internal Revenue Service (IRS), Treasury.

ACTION: Notice of public hearing on proposed rulemaking.

SUMMARY: This document contains a notice of public hearing on proposed regulations relating to the optional 10-year writeoff of certain tax preference items under section 59(e).

DATES: The public hearing is being held on December 7, 2004, at 10 a.m. The IRS must receive outlines of the topics to be discussed at the hearing by November 30, 2004.

ADDRESSES: The public hearing is being held in the Room 4415, Internal Revenue Building, 1111 Constitution Avenue, NW., Washington, DC.

Mail outlines to: CC:PA:LPD:PR (REG-124405-03), room 5203, Internal Revenue Service POB 7604, Ben Franklin Station, Washington, DC 20044. Submissions may be hand-delivered Monday through Friday between the hours of 8 a.m. and 4 p.m. to CC:PA:LPD:PR (REG-124405-03), Courier's Desk, Internal Revenue Service, 1111 Constitution Avenue, NW., Washington, DC or sent electronically, via the IRS Internet site at http://www.irs.gov/regs or via the Federal eRulemaking Portal at http://www.regulations.gov (IRS-REG-124405-03).

FOR FURTHER INFORMATION CONTACT: Concerning submissions of comments, the hearing, and/or to be placed on the building access list to attend the hearing LaNita Van Dyke, (202) 622-7180 (not a toll-free number).

SUPPLEMENTARY INFORMATION: The subject of the public hearing is the notice of proposed regulations (REG-124405-03) that was published in the Federal Register on Tuesday, July 20, 2004 (69 FR 43367).

The rules of 26 CFR 601.601(a)(3) apply to the hearing. Persons who have submitted written comments and wish to present oral comments at the hearing must submit an outline of the topics to be discussed and the amount of time to be devoted to each topic (signed original and eight copies) by November 30, 2004.

A period of 10 minutes is allotted to each person for presenting oral comments. After the deadline for receiving outlines has passed, the IRS will prepare an agenda containing the schedule of speakers. Copies of agenda will be made available, free of charge, at the hearing. Because of access restrictions, the IRS will not admit visitors beyond the immediate entrance area more than 30 minutes before the hearing. For information about having your name placed on the building access list to attend the hearing, see the FOR FURTHER INFORMATION CONTACT section of this document.

Cynthia E. Grigsby,
Acting Chief, Publications and Regulations Branch, Associate Chief Counsel, Legal Processing Division (Procedures and Administration).

[FR Doc. 04-24755 Filed 11-2-04; 1:53 pm]

BILLING CODE 4830-01-P